DEPARTMENT OF TRANSPORTATION

Federal Aviation Administration

14 CFR Part 39

[Docket No. FAA-2016-0451; Directorate Identifier 2013-NM-253-AD]

RIN 2120-AA64

Airworthiness Directives; Airbus Airplanes

AGENCY: Federal Aviation Administration (FAA), DOT.

ACTION: Supplemental notice of proposed rulemaking (SNPRM); reopening of comment period.

SUMMARY: We are revising an earlier notice of proposed rulemaking (NPRM) to supersede Airworthiness Directive (AD) 2004-23-20. AD 2004-23-20 applies to certain Airbus Model A300 B2-1A, A300 B2-1C, A300 B2K-3C, A300 B2-203, A300 B4-2C, A300 B4-103, and A300 B4-203 airplanes; and Model A300 B4-601, A300 B4-603, A300 B4-620, A300 B4-622, A300 B4-605R, A300 B4-622R, A300 F4-605R and A300 C4-605R Variant F airplanes. This action revises the NPRM by reducing certain compliance times, among other changes. We are proposing this airworthiness directive (AD) to address the unsafe condition on these products. Since these actions impose an additional burden over those proposed in the NPRM we are reopening the comment period to allow the public the chance to comment on these proposed changes.

DATES: The comment period for the NPRM published in the Federal Register on February 1, 2016 (81 FR 5056), is reopened.

We must receive comments on this SNPRM by July 31, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this SNPRM, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-0451; or in person at the Docket Management Facility between 9 a.m. and 5 p.m., Monday through Friday, except Federal holidays. The AD docket contains this SNPRM, the regulatory evaluation, any comments received, and other information. The street address for the Docket Office (telephone: 800-647-5527) is in the ADDRESSES section. Comments will be available in the AD docket shortly after receipt.

FOR FURTHER INFORMATION CONTACT: Dan Rodina, Aerospace Engineer, International Branch, ANM-116, Transport Airplane Directorate, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2016-0451; Directorate Identifier 2013-NM-253-AD” at the beginning of your comments. We specifically invite comments on the overall regulatory, economic, environmental, and energy aspects of this SNPRM. We will consider all comments received by the closing date and may amend this SNPRM based on those comments.

We will post all comments we receive, without change, to http://www.regulations.gov, including any personal information you provide. We will also post a report summarizing each substantive verbal contact we receive about this SNPRM.

Discussion

On November 10, 2004, we issued AD 2004-23-20, Amendment 39-13875 (69 FR 68779, November 26, 2004) (“AD 2004-23-20”). AD 2004-23-20 requires actions intended to address an unsafe condition on certain Airbus Model A300 B2-1A, B2-1C, B2K-3C, B2-203, B4-2C, B4-103, and B4-203 airplanes; and Model A300 B4-601, A300 B4-603, A300 B4-620, A300 B4-622, A300 B4-605R, A300 B4-622R, A300 F4-605R and A300 C4-605R Variant F airplanes.

We issued an NPRM to amend 14 CFR part 39 by adding an AD to supersede AD 2004-23-20 that would apply to certain Airbus Model A300 B2-1A, B2-1C, B2K-3C, B2-203, B4-2C, B4-103, and B4-203 airplanes; and Model A300 B4-601, A300 B4-603, A300 B4-620, A300 B4-622, A300 B4-605R, A300 B4-622R, A300 F4-605R and A300 C4-605R Variant F airplanes. The NPRM published in the Federal Register on February 1, 2016 (81 FR 5056) (“the NPRM”). The NPRM was prompted by a report indicating that the material used to manufacture the upper frame feet was changed and negatively affected the fatigue life of the frame feet. The NPRM proposed to reduce the compliance times for the initial inspection and the inspection intervals. The NPRM also proposed to expand the applicability and require an additional repair on certain airplanes that have been modified.

Actions Since the NPRM Was Issued

Since we issued the NPRM, we have determined the compliance times for the proposed modification must be reduced and an additional modification must be done. In addition, we have determined that the repetitive inspections are no longer necessary. Therefore, certain requirements identified as “retained” in the proposed AD (in the NPRM) have been removed from this proposed AD.

The European Aviation Safety Agency (EASA), which is the Technical Agent for the Member States of the European Union, has issued EASA AD 2016-0249, dated December 14, 2016; corrected January 10, 2017 (referred to after this as the Mandatory Continuing Airworthiness Information, or “the MCAI”); to correct an unsafe condition for all Airbus Model A300 B4-603, A300 B4-620, A300 B4-622, A300 B4-605R, A300 B4-622R, A300 F4-605R, A300 F4-622R, and A300 C4-605R Variant F airplanes. The MCAI states:

During an inspection in accordance with Airworthiness Limitation Item (ALI) 53-15-54 on an A300-600 aeroplane, Frames (FR) 43, FR44, FR45 and FR46 were found cracked between stringer (STGR) 24 and STGR30 on the aeroplane right hand side. FR45 was also found cracked on the aeroplane left hand side.

This condition, if not detected and corrected, could reduce the structural integrity of the fuselage.

To address this potential unsafe condition and improve the fatigue life of the upper frame feet fittings, Airbus issued Service Bulletin (SB) A300-53-6125 to provide instructions for expansion of the most sensitive fastener holes between FR41 and FR46. DGAC [Direction Générale de l'Aviation Civile] France issued AD F-2004-002 (EASA approval 2003-2108) [which corresponds to FAA AD 2004-23-20] to require the structural modification defined in SB A300-53-6125 Revision 03 (Airbus modification 12168).

[DGAC] AD F-2004-002 was subsequently superseded by EASA AD 2013-0295 to amend the inspection programme in this area as provided in SB A300-53-6122 (which is now obsolete and replaced by ALI task 531558, published in the [Airworthiness Limitation Section] ALS Part 2 Revision 01 dated 07 August 2015).

Since EASA AD 2013-0295 was issued, a new investigation was conducted in the frame of the Widespread Fatigue Damage study. Airbus revised the thresholds for the accomplishment of the instructions defined in SB A300-53-6125 and issued SB A300-53-6178 to provide modification instructions to improve the fatigue life of upper frame feet fittings on aeroplane on which Airbus modification (mod) 12168 or Airbus SB A300-53-6125 was embodied.

For the reason described above, this [EASA] AD retains some requirements of EASA AD 2013-0295, which is superseded, and requires modification of the upper frame feet fittings from FR41 to FR46 [repetitive inspections are not retained].

This [EASA] AD is republished to correct a typographical error in the compliance time * * *.

We have also removed Model A300 B2-1A, B2-1C, B2K-3C, B2-203, B4-2C, B4-103, and B4-203 airplanes from the applicability of this proposed AD. We have issued AD 2017-05-01, Amendment 39-18811 (82 FR 12401, March 3, 2017), which addresses the identified unsafe condition on all Model A300 series airplanes.

In addition, we have removed Model A300 B4-601 airplanes from the applicability of this proposed AD. The airplane manufacturer stated that all serial numbers for this airplane model have been removed from service. Also, we have added Model A300 F4-622R airplanes to the applicability of this proposed AD to correspond with the applicability in the MCAI.

You may examine the MCAI in the AD docket on the Internet at http://www.regulations.gov by searching for and locating Docket No. FAA-2016-0451.

Related Service Information Under 1 CFR Part 51

Airbus has issued Service Bulletin A300-53-6125, Revision 04, dated March 17, 2015; and Service Bulletin A300-53-6178, dated March 17, 2015. The service information describes procedures for the modification of certain upper frame feet fittings. These documents are distinct since they apply to airplanes in different configurations.

This service information is reasonably available because the interested parties have access to it through their normal course of business or by the means identified in the ADDRESSES section.

Comments

We gave the public the opportunity to participate in developing this proposed AD. We considered the comments received.

Request To Specify That Reporting Is Optional

FedEx requested that the reporting action specified in Airbus Service Bulletin A300-53-6122 be identified as an optional action in the NPRM. The commenter stated that the NPRM does not include a statement that the reporting requirements specified in Airbus Service Bulletin A300-53-6122 are not required by the NPRM. The commenter stated that Airbus has received these reports in the past and has not provided statistics or benefits to operators.

We agree with the commenter that reporting should not be required. All references to Airbus Service Bulletin A300-53-6122 have been omitted from this proposed AD. Since the NPRM was issued, Airbus has included the inspections specified in Airbus Service Bulletin A300-53-6122 in appropriate airworthiness limitations. Since this proposed AD does not include any references to Airbus Service Bulletin A300-53-6122, we have not revised this proposed AD in regard to this issue.

Request To Extend the Grace Period in Paragraph (n)(1) of the Proposed AD

FedEx requested that the grace period in paragraph (n)(1) of the proposed AD (in the NPRM) be extended from 1,000 flight cycles to 2,000 flight cycles. The commenter noted that this would permit scheduling this inspection and modification at the next major maintenance check and would not impose any additional scheduling burden on operators. The commenter stated that this would only affect seven airplanes in its fleet that are currently awaiting the initial threshold for the inspection. The commenter also mentioned that its experience to date has not shown wide spread fatigue cracking in this area under the existing 15,000-flight-cycle threshold.

As stated previously, certain inspections, including those specified in paragraph (m)(1) of the proposed AD (in the NPRM), are not included in this proposed AD. Therefore, it is not necessary to extend the grace period for the initial rotating probe inspection (which corresponds to paragraph (n)(1) of the proposed AD (in the NPRM)). We have not changed this proposed AD regarding this issue.

Request To Revise the Compliance Times in Paragraph (o) of the Proposed AD

United Parcel Service (UPS) requested that the NPRM be revised to simplify the compliance requirements in paragraph (o) of the proposed AD to reflect the current service experience of the fleet. UPS noted that almost 12 years have passed between the issuance of AD 2004-23-20 and the NPRM. UPS pointed out that during this time new information regarding structural fatigue has been developed and this information is not reflected in the NPRM. In addition, UPS stated that, while it is the FAA's standard practice to supersede an AD but retain information from the AD being superseded in an NPRM, in this NPRM, the compliance times in paragraph (o) of the proposed AD are confusing and difficult to interpret.

We agree with the commenter's request to clarify and simplify the compliance times in paragraph (g)(1) of this proposed AD (which corresponds to paragraphs (o)(1)(i) and (o)(1)(ii) of the proposed AD (in the NPRM)), for the reasons provided by the commenter. We have revised the compliance times in paragraph (g)(1) of this proposed AD to correspond with the compliance times specified in the MCAI.

Request To Include Inspection in One Location

UPS requested that we either include the inspection specified in paragraph (n)(1)(i) of the proposed AD (in the NPRM) as an AD requirement or as an airworthiness limitation. UPS stated that the inspection specified in Airbus Service Bulletin A300-53-6125, which is mandated by paragraph (n)(1)(i) of the proposed AD (in the NPRM), is a duplicate of ALI task 53-15-58. UPS noted that the NPRM and airworthiness limitation documents have different inspection interval requirements and there is the potential for duplicate and conflicting requirements if either document is revised.

We agree with the commenter's observation regarding duplicate inspection requirements. ALI task 53-15-58 was revised in Airbus ALS Part 2, Variation 13.2, to include the inspection in ALI task 53-15-58-03. The inspection is required for airplanes that have not incorporated the actions specified in Airbus Service Bulletin A300-53-6125 and is no longer required for airplanes that have incorporated the actions specified in Airbus Service Bulletin A300-53-6125. The FAA issued Alternative Method of Compliance (AMOC) ANM-116-15-387 to AD 2013-13-13, Amendment 39-17501 (79 FR 48957, August 19, 2014), that allows operators to revise their maintenance or inspection programs by incorporating Airbus ALS Part 2, Variation 13.2. We are working on proposed rulemaking that would require operators to incorporate the latest version of Airbus ALS Part 2, which includes the inspection mentioned previously by the commenter. The inspections in paragraph (m)(1) of the proposed AD (in the NPRM), along with the associated compliance times in paragraph (n)(1) of the proposed AD (in the NPRM), are not included in the requirements of this proposed AD. Therefore, no changes to this proposed AD are necessary regarding this issue.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the rulemaking. As a result, we have determined that it is necessary to reopen the comment period to provide additional opportunity for the public to comment on this SNPRM.

Differences Between This SNPRM and the MCAI

There is a difference between this SNPRM and the MCAI regarding how the compliance time is stated for the post-modification actions specified in paragraph (h) of this proposed AD. The MCAI states that the post-modification actions should be accomplished “no later than 6 months (estimated by projection of airplane usage) prior to exceeding 24,500 flight cycles or 42,700 flight hours, whichever occurs first after Airbus SB A300-53-6178 embodiment.” Paragraph (h) of this proposed AD specifies that the post-modification actions should be done “Prior to exceeding 24,100 total flight cycles or 42,000 total flight hours, whichever occurs first after doing the modification required by paragraph (g)(2) of this AD.” The compliance time in paragraph (h) of this proposed AD is based upon the average annual utilization of the Airbus airplanes identified in paragraph (c) of this proposed AD, which is 790 flight cycles and 1,463 flight hours (or 395 flight cycles and 732 flight hours over 6 months). We have rounded the compliance time in paragraph (h) of this proposed AD accordingly.

Costs of Compliance

We estimate that this SNPRM affects 65 airplanes of U.S. registry.

The actions that are required by AD 2004-23-20 and retained in this SNPRM take about 90 work-hours per product, at an average labor rate of $85 per work-hour. Required parts cost about $4,000 per product. Based on these figures, the estimated cost of the actions that were required by AD 2004-23-20 is $11,650 per product.

We also estimate that it would take up to 109 work-hours per product to comply with the new basic requirements of this SNPRM. The average labor rate is $85 per work-hour. Required parts would cost up to $6,070 per product. Based on these figures, we estimate the cost of this SNPRM on U.S. operators to be $996,775, or $15,335 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-23-20, Amendment 39-13875 (69 FR 68779, November 26, 2004), and adding the following new AD:

Airbus: Docket No. FAA-2016-0451; Directorate Identifier 2013-NM-253-AD.

(a) Comments Due Date

We must receive comments by July 31, 2017.

(b) Affected ADs

This AD replaces AD 2004-23-20, Amendment 39-13875 (69 FR 68779, November 26, 2004) (“AD 2004-23-20”).

(c) Applicability

This AD applies to Airbus Model A300 B4-603, A300 B4-620, A300 B4-622, A300 B4-605R, A300 B4-622R, A300 F4-605R, A300 F4-622R, and A300 C4-605R Variant F airplanes; certificated in any category; all manufacturer serial numbers.

(d) Subject

Air Transport Association (ATA) of America Code 53, Fuselage.

(e) Reason

This AD was prompted by a report indicating that the material used to manufacture the upper frame feet was changed and negatively affected the fatigue life of the frame feet. We are issuing this AD to prevent cracking of the center section of the fuselage, which could result in a ruptured frame foot and reduced structural integrity of the airplane.

(f) Compliance

Comply with this AD within the compliance times specified, unless already done.

(g) Modification of the Upper Frame Feet Fittings

(1) Except for airplanes identified in table 2 to paragraphs (g)(1) and (g)(2) of this AD: At the times specified in table 1 to paragraph (g)(1) of this AD, depending on the average flight time (AFT), as defined in paragraph (i) of this AD, modify the upper frame feet fittings, including doing all applicable related investigative and corrective actions, in accordance with the Accomplishment Instructions of Airbus Service Bulletin A300-53-6125, Revision 04, dated March 17, 2015 (“SB A300-53-6125, Revision 04”). Do all applicable related investigative and corrective actions before further flight. Where Airbus SB A300-53-6125, Revision 04, specifies to contact Airbus for appropriate action, and specifies that action as “RC” (Required for Compliance): Before further flight, accomplish corrective actions in accordance with the procedures specified in paragraph (l)(2) of this AD.

Table 1 to Paragraph (g)(1) of This AD—Modification SB A300-53-6125, Revision 04
Airplane usage | Initial compliance time (flight cycles or flight hours, whichever occurs first since first flight)
AFT greater than 1.5 | Within 10,200 flight cycles or 22,100 flight hours.
AFT equal to or less than 1.5 | Within 11,000 flight cycles or 16,600 flight hours.

Table 2 to Paragraphs (g)(1) and (g)(2) of This AD—Modification SB A300-53-6178
Airplane configuration | Initial compliance time
Post-modification 12168 | Within 27,100 flight cycles or 47,300 flight hours since the airplane's first flight, whichever occurs first.
Post-SB A300-53-6125 | Within 27,100 flight cycles or 47,300 flight hours after embodiment of SB A300-53-6125, whichever occurs first.

(2) For airplanes identified in table 2 to paragraphs (g)(1) and (g)(2) of this AD: At the applicable compliance time specified in table 2 to paragraphs (g)(1) and (g)(2) of this AD, modify the upper frame feet fittings, in accordance with the Accomplishment Instructions of Airbus Service Bulletin A300-53-6178, dated March 17, 2015. Where Airbus Service Bulletin A300-53-6178, dated March 17, 2015, specifies to contact Airbus for appropriate action, and specifies that action as “RC”: Before further flight, accomplish corrective actions in accordance with the procedures specified in paragraph (l)(2) of this AD.

(h) Additional Post-Modification Actions

Prior to exceeding 24,100 total flight cycles or 42,000 total flight hours, whichever occurs first after doing the modification required by paragraph (g)(2) of this AD: Contact the Manager, International Branch, ANM-116, Transport Airplane Directorate, FAA; or the European Aviation Safety Agency (EASA); or Airbus's EASA Design Organization Approval (DOA); for instructions to do additional actions, and do those actions at the compliance times stated therein.

(i) Definition of AFT

For the purpose of this AD, to establish the applicable AFT for the actions required by paragraph (g)(1) of this AD, divide the total accumulated flight hours counted from take-off to touch-down by the total accumulated flight cycles as of the effective date of this AD.

(j) Credit for Previous Actions

This paragraph provides credit for the modification required by paragraph (g) of this AD, if the modification was performed before the effective date of this AD using the service information specified in paragraph (j)(1), (j)(2), (j)(3), or (j)(4) of this AD.

(1) Airbus Service Bulletin A300-53-6125, dated November 8, 2000.

(2) Airbus Service Bulletin A300-53-6125, Revision 01, dated June 13, 2003.

(3) Airbus Service Bulletin A300-53-6125, Revision 02, dated February 25, 2005.

(4) Airbus Service Bulletin A300-53-6125, Revision 03, dated September 13, 2011.

(k) Exempt Airplanes

For airplanes on which Airbus Modification 12168 has been embodied in production: The modification required by paragraph (g)(1) of this AD is not required by this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(3) Required for Compliance (RC): Except as required by paragraphs (g)(1) and (g)(2) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA Airworthiness Directive 2016-0249, dated December 14, 2016; corrected January 10, 2017; for related information. This MCAI may be found in the AD docket on the Internet at http://www.regulations.gov by searching for and locating Docket No. FAA-2016-0451.

(2) For more information about this AD, contact Dan Rodina, Aerospace Engineer, International Branch, ANM-116, Transport Airplane Directorate, 1601 Lind Avenue SW., Renton, WA 98057-3356; telephone 425-227-2125; fax 425-227-1149.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on May 31, 2017.
Michael Kaszycki,
Acting Manager, Transport Airplane Directorate, Aircraft Certification Service.

[FR Doc. 2017-11826 Filed 6-14-17; 8:45 am]

BILLING CODE 4910-13-P